Proclamation 7567 of May 21, 2002

Prayer for Peace, Memorial Day, 2002

By the President of the United States of America

A Proclamation

Every Memorial Day, Americans remember the debt of gratitude we owe to our veterans who gave their lives for our country. On this important day, communities across our Nation stop to remember and to honor the great sacrifices made by our men and women in uniform.

Since its beginnings, our country has faced many threats that have tested its courage. From war-torn battlefields and jungle skirmishes to conflicts at sea and air attacks, generations of brave men and women have fought and died to defeat tyranny and protect our democracy. Their sacrifices have made this Nation strong and our world a better place.

Upwards of 48 million Americans have served the cause of freedom and more than a million have died to preserve our liberty. We also remember the more than 140,000 who were taken prisoner-of-war and the many others who were never accounted for. These memories remind us that the cost of war and the price of peace are great.

The tradition of Memorial Day reinforces our Nation's resolve to never forget those who gave their last full measure for America. As we engage in the war against terrorism, we also pray for peace. When America emerged from the Civil War, President Abraham Lincoln called on all Americans to “cherish a just and lasting peace.” In these extraordinary times, our Nation has once again been challenged, and Lincoln's words remain our guiding prayer.

We continue to rely on our brave and steadfast men and women in uniform to defend our freedom. United as a people, we pray for peace throughout the world. We also pray for the safety of our troops. This new generation follows an unbroken line of good, courageous, and unfaltering heroes who have never let our country down.

As we commemorate this noble American holiday, we honor those who fell in defense of freedom. We honor them in our memory through solemn observances, with the love of a grateful Nation.

In respect for their devotion to America, the Congress, by a joint resolution approved on May 11, 1950 (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, by virtue of the authority vested in me by the Constitution and laws of the United States, do hereby designate Memorial Day, May 27, 2002, as a day of prayer for permanent peace, and I designate the hour beginning in each locality at 11:00 a.m. of that day as a time to unite in prayer. I also ask all Americans to observe the National Moment of Remembrance beginning at 3:00 p.m. local time on Memorial Day. I urge the press, radio, television, and all other media to participate in these observances.

I also request the Governors of the United States and the Commonwealth of Puerto Rico, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-first day of May, in the year of our Lord two thousand two, and of the Independence of the United States of America the two hundred and twenty-sixth.

B

[FR Doc. 02-13269

Filed 5-23-02; 8:45 am]

Billing code 3195-01-P